GENERAL SERVICES ADMINISTRATION

41 CFR Parts 301-11, 301-74, Appendix E to Chapter 301, 304-3, and 304-5

[FTR Amendment 2013-01, FTR Case 2012-301; Docket 2012-0011, Sequence 1]

RIN 3090-AJ27

Federal Travel Regulation; Removal of Conference Lodging Allowance Provisions

AGENCY: Office of Government-wide Policy (OGP), General Services Administration (GSA).

ACTION: Final rule.

SUMMARY: GSA is amending the Federal Travel Regulation (FTR) by removing the conference lodging allowance reimbursement option for employees on temporary duty (TDY) travel. This case is included in GSA's retrospective review of existing regulations under Executive Order 13563. Additional information is located in GSA's retrospective review available at: www.gsa.gov/improvingregulations.

DATES: Effective: October 31, 2013.

FOR FURTHER INFORMATION CONTACT: For clarification of content, contact Mr. Cy Greenidge, Program Analyst, Office of Government-wide Policy, at 202-219-2349. Please cite FTR Amendment 2013-01; FTR case 2012-301. Contact the Regulatory Secretariat (MVCB), Attn: Ms. Hada Flowers, 1800 F Street NW., Washington, DC 20405, 202-501-4755, for information pertaining to status or publication schedules.

SUPPLEMENTARY INFORMATION:

A. Background

GSA published a proposed rule in the Federal Register on October 23, 2012, (77 FR 64791). The proposed rule recommended the removal of the conference lodging allowance option from the FTR. While the proposed rule indicated the conference lodging allowance allows travelers to exceed the lodging rate by up to 25 percent when the conference is sponsored by a Federal agency, this allowance also can apply to travelers attending non-Government sponsored conferences. The proposed rule also incorrectly stated that an agency official must approve actual expense allowance requests, but there is no such mandate for the use of the conference lodging allowance. In actuality, the Government agency sponsoring a Government conference or the travel approving official of a Government employee attending a non-Government sponsored conference must authorize reimbursement of the conference lodging allowance when lodging is not available at the established lodging per diem rate.

The public had 60 calendar days to comment on the proposed rule. GSA made no significant changes to the substance of this final rule.

B. Analysis of Public Comments

Comments: Two respondents expressed support for the proposed rule by indicating that the conference lodging allowance should be removed promptly and that agencies need to have a way to limit and keep track of how travel dollars are spent.

Response: Although no response is required, GSA appreciates all comments.

Comments: One respondent stated that too many Federal employees attend conferences wasting taxpayer dollars instead of using alternatives (e.g., teleconferencing, video conferencing, webinars).

Response: Agencies should always ensure and justify that travel is necessary to accomplish the agency mission, as well as consider the use of technologies (e.g., teleconferencing, video conferencing, webinars) in lieu of travel.

Comments: Three respondents did not want the conference lodging allowance provision removed from the FTR. They indicated that the proposed rule did not take into account additional transportation costs that might occur if employees lodged away from the conference site; that removal of the conference lodging allowance would be extraordinarily burdensome for little or no financial benefit in terms of administrative costs; and that the removal of the conference lodging allowance will result in increasing agency travel expenditures for transportation.

Response: This rule amends FTR section 301-74.6 by indicating that when lodging is not available at the applicable per diem rate, travelers should construct a cost comparison, including all travel-related costs of the available options. If the cost comparison shows that obtaining lodging at the conference facility results in the lowest total travel costs, the agency may authorize actual expense reimbursement. Agencies must develop internal policies concerning when to authorize this method of reimbursement. The preamble to the proposed rule was incorrect about approval not being mandatory when using the conference lodging allowance; however, this has been addressed in the preamble of this final rule.

Comments: One respondent indicated that this rule would make it difficult for the hospitality industry to meet the lodging needs of Federal conference attendees.

Response: Removing the conference lodging allowance provision will allow employees to spend taxpayer dollars more prudently when traveling for the Federal Government. While industry may offer rates as it sees fit, travelers should always look for hotels that are at or below per diem when they are on official travel.

Comments: One respondent expressed frustration with their E-Gov Travel System when booking hotels and the costs of contract city pair flights.

Response: The purpose of this rule is to remove the conference lodging allowance provisions from the FTR. Therefore, the comments about electronic systems and contract carrier prices are beyond the scope of this final rule.

C. Executive Order 12866 and Executive Order 13563

Executive Orders (E.O.s) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action, and therefore, was not subject to review under Section 6(b) of E.O. 12866, Regulatory Planning and Review, dated September 30, 1993.

D. Regulatory Flexibility Act

This final rule will not have a significant economic impact on a substantial number of small entities within the meaning of the Regulatory Flexibility Act, 5 U.S.C. 601, et seq. This final rule is also exempt from the Administrative Procedure Act pursuant to 5 U.S.C. 553(a)(2) because it applies to agency management or personnel.

E. Paperwork Reduction Act

The Paperwork Reduction Act does not apply because the changes to the FTR do not impose recordkeeping or information collection requirements, or the collection of information from offerors, contractors, or members of the public that require the approval of OMB under 44 U.S.C. 3501, et seq.

F. Small Business Regulatory Enforcement Fairness Act

This final rule is also exempt from Congressional review prescribed under 5 U.S.C. 801. This final rule is not a major rule under 5 U.S.C. 804.

List of Subjects in 41 CFR Parts 301-11, 301-74, Appendix E to Chapter 301, 304-3, and 304-5

Acceptance of travel and related expenses from non-Federal sources, Administrative practices and procedures, Government employees, Travel and Per Diem expenses.

Dated: August 29, 2013.
Dan Tangherlini,
Administrator of General Services.

For the reasons set forth in the preamble, pursuant to 5 U.S.C. 5701-5709 and 31 U.S.C. 1353, GSA amends 41 CFR parts 301-11, 301-74, Appendix E to Chapter 301, 304-3, and 304-5 as set forth below:

PART 301-11—PER DIEM EXPENSES

1. The authority citation for 41 CFR part 301-11 continues to read as follows:

Authority: 5 U.S.C. 5707.

§ 301-11.5 [Amended]

2. Amend § 301-11.5 by—

a. Adding the word “or” at the end of paragraph (b);

b. Removing paragraph (c); and

c. Redesignating paragraph (d) as paragraph (c).

PART 301-74—CONFERENCE PLANNING

3. The authority citation for 41 CFR part 301-74 continues to read as follows:

Authority: 5 U.S.C. 5707.

4. Revise § 301-74.6 to read as follows:

§ 301-74.6 What can we do if we cannot find an appropriate conference facility at the chosen locality per diem rate?

While it is always desirable to obtain lodging facilities within the established lodging portion of the per diem rate for the chosen locality, it may not always be possible. In those instances when lodging is not available at the applicable per diem rate, travelers should construct a cost comparison of all associated costs, including round-trip ground transportation, between finding lodging at the applicable per diem rate away from the conference locality and using the actual expense method at the conference locality as prescribed in Subpart D of Part 301-11 of this chapter.

§§ 301-74.7 through 301-74.10, 301-74.12, 301.74-22, and 301-74.23 [Removed]

5. Remove §§ 301-74.7 through 301-74.10, 301-74.12, 301.74-22, and 301-74.23.

§§ 301-74.11, 301-74.13 through 301-74.19, and 301-74.24 through 301-74.26 [Redesignated as §§ 301-74.7, 301-74.8 through 301-74.14, and 301-74.22 through 301-74.24]

6. Redesignate §§ 301-74.11, 301-74.13 through 301-74.19, and 301-74.24 through 301-74.26 as §§ 301-74.7, 301-74.8 through 301-74.14, and 301-74.22 through 301-74.24, respectively. A redesignation table is set forth below for the convenience of the reader:

Old section No. | Redesignated section No.
301-74.11 | 301-74.7
301-74.13 | 301-74.8
301-74.14 | 301-74.9
301-74.15 | 301-74.10
301-74.16 | 301-74.11
301-74.17 | 301-74.12
301-74.18 | 301-74.13
301-74.19 | 301-74.14
301-74.24 | 301-74.22
301-74.25 | 301-74.23
301-74.26 | 301-74.24

§ 301-74.9 [Amended]

7. Amend newly redesignated § 301-74.9 in the first sentence by removing “§ 301-74.15” and adding “§ 301-74.10” in its place.

§ 301-74.10 [Amended]

8. Amend the heading to newly redesignated § 301-74.10 by removing “§ 301-74.14” and adding “§ 301-74.9” in its place.

9. Revise newly designated § 301-74.11 to read as follows:

§ 301-74.11 What must be included in any advertisement or application form relating to conference attendance?

Any advertisement or application for attendance at a conference described in § 301-74.9 must include notice of the prohibition against using a non-FEMA approved place of public accommodation for conferences. In addition, any executive agency, as defined in 5 U.S.C. 105, shall notify all non-Federal entities to which it provides Federal funds of this prohibition.

§ 301-74.12 [Amended]

10. Amend newly redesignated § 301-74.12 by removing from the Note “§ 301-74.17(a)” and adding “§ 301-74.12(a)” in its place.

11. Revise newly designated § 301-74.22 to read as follows:

§ 301-74.22 When should actual expense reimbursement be authorized for conference attendees?

You may authorize actual expenses under § 301-11.300 of this chapter when the applicable lodging rate is inadequate.

Appendix E, Chapter 301 [Amended]

12. Amend Appendix E to Chapter 301 by—

a. Under the heading “Terms” by removing the paragraph “Conference lodging allowance: The rate that is up to 25 percent above the established lodging per diem rate.”, and

b. Under the heading “Notification,” subheading “Announcement and/or Invitations,” by removing the paragraph “Notice that conference lodging allowance applies if applicable.”

PART 304-3—EMPLOYEE RESPONSIBILITY

13. The authority citation for 41 CFR part 304-3 continues to read as follows:

Authority: 5 U.S.C. 5707; 31 U.S.C. 1353.

§ 304-3.11 [Amended]

14. Amend § 304-3.11—

a. In the heading by removing “(per diem, actual expense, or conference lodging)” and adding “(per diem or actual expense)” in its place; and

b. In the introductory paragraph by removing “(per diem, actual expense, or conference lodging)” and adding “(per diem or actual expense)” in its place.

PART 304-5—AGENCY RESPONSIBILITIES

15. The authority citation for 41 CFR part 304-5 continues to read as follows:

Authority: 5 U.S.C. 5707; 31 U.S.C. 1353.

§ 304-5.4 [Amended]

16. Amend § 304-5.4—

a. In the heading by removing “(per diem, actual expense, or conference lodging)” and adding “(per diem or actual expense)” in its place; and

b. In paragraph (a), in the introductory paragraph by removing “(per diem, actual expense, or conference lodging)” and adding “(per diem or actual expense)” in its place.

[FR Doc. 2013-26014 Filed 10-30-13; 8:45 am]

BILLING CODE 6820-14-P